DEPARTMENT OF HEALTH AND HUMAN SERVICES

Administration for Children and Families

Tribal Consultation Meetings

AGENCY: Office of Head Start (OHS), Administration for Children (ACF) and Families, Department of Health and Human Services (HHS).

ACTION: Notice of meetings.

SUMMARY: Pursuant to the Improving Head Start for School Readiness Act of 2007, notice is hereby given of six 1-day Tribal Consultation (TC) Sessions to be held between the HHS)/ACF, OHS leadership and the leadership of tribal governments operating Head Start (including Early Head Start) programs. The purpose of these consultation sessions is to discuss ways to better meet the needs of American Indian and Alaska Native children and their families, taking into consideration funding allocations, distribution formulas, and other issues affecting the delivery of Head Start services in their geographic locations. Six TCs will be held as part of HHS/ACF and/or ACF TC Sessions.

DATES:

June 19, 2019, from 1:00 p.m. to 3:00 p.m.

June 27, 2019, from 9:00 a.m. to 12:00 p.m.

July 10, 2019, from 1:00 p.m. to 3:00 p.m.

July 16, 2019, from 1:00 p.m. to 3:00 p.m.

August 21, 2019, from 9 a.m. to 11 a.m.

September 16, 2019, Date and time to be determined

ADDRESSES:

• June 19, 2019—Sacramento, CA (Location to be provided at a later date)

• June 27, 2019—National Indian Head Start Directors Association, Scottsdale, AZ (Location to be provided at a later date)

• July 10, 2019—Spokane, WA (Location to be provided at a later date)

• July 16, 2019—Washington, DC (Location to be provided at a later date)

• August 21, 2019—Denver, CO (Location to be provided at a later date)

• September 16, 2019—Temecula, CA (Location to be provided at a later date)

FOR FURTHER INFORMATION CONTACT: Todd Lertjuntharangool, Regional Program Manager, Region XI/AIAN, Office of Head Start, email Todd.Lertjuntharangool@acf.hhs.gov, or phone (202) 205-9503. Additional information and online meeting registration will be available at http://eclkc.ohs.acf.hhs.gov/hslc/hs/calendar/tc2019.

SUPPLEMENTARY INFORMATION: In accordance with the Improving Head Start for School Readiness Act of 2007, Public Law 110-134 [42 U.S.C. 9835, § 640(l)(4)], ACF announces OHS tribal consultations for leaders of tribal governments operating Head Start and Early Head Start programs. The agenda for the scheduled OHS tribal consultations in Sacramento, California; Scottsdale, Arizona; Spokane, Washington; Washington, DC; Denver, Colorado; and Temecula, California will be organized around the statutory purposes of Head Start tribal consultations related to meeting the needs of American Indian and Alaska Native children and families, taking into consideration funding allocations, distribution formulas, and other issues affecting the delivery of Head Start services in their geographic locations. In addition, OHS will share actions taken and in progress to address the issues and concerns raised in the 2018 OHSTCs.

The consultation sessions will be conducted with elected or appointed leaders of tribal governments and their designated representatives. Designees must have a letter from the tribal government authorizing them to represent the tribe. Tribal governments must submit the designee letter at least 3 days in advance of the consultation sessions to Todd Lertjuntharangool at Todd.Lertjuntharangool@acf.hhs.gov. Other representatives of tribal organizations and Native non-profit organizations are welcome to attend as observers.

A detailed report of each consultation session will be prepared and made available within 45 days of the consultation sessions to all tribal governments receiving funds for Head Start and Early Head Start programs. Tribes wishing to submit written testimony for the report should send testimony to Todd Lertjuntharangool at Todd.Lurtjuntharangool@acf.hhs.gov either prior to each consultation session or within 30 days after each meeting. OHS will summarize oral testimony and comments from the consultation sessions in each report without attribution, along with topics of concern and recommendations.

Dated: May 7, 2019.
Deborah Bergeron
Director, Office of Head Start.

[FR Doc. 2019-09927 Filed 5-13-19; 8:45 am]

BILLING CODE 4184-40-P